DEPARTMENT OF ENERGY

Federal Energy Regulatory Commission

Combined Notice of Filings #1

Take notice that the Commission received the following electric rate filings:

Docket Numbers: ER11-4380-005; ER15-1045-001; ER13-338-006; ER13-1641-002; ER13-1562-004; ER12-610-007; ER12-2314-005; ER12-2037-006; ER12-1931-006; ER11-4381-005; ER10-2504-007; ER10-2488-012; ER10-2467-006; ER10-2436-006; ER10-2434-006.

Applicants: Bellevue Solar, LLC, Catalina Solar Lessee, LLC, Chestnut Flats Lessee, LLC, Fenton Power Partners I, LLC, Hoosier Wind Project, LLC, Oasis Power Partners, LLC, Pacific Wind Lessee, LLC, Pilot Hill Wind, LLC, Shiloh Wind Project 2, LLC, Shiloh III Lessee, LLC, Shiloh IV Lessee, LLC, Spearville 3, LLC, Spinning Spur Wind, LLC, Wapsipinicon Wind Project, LLC, Yamhill Solar, LLC.

Description: Supplement to October 7, 2015 Notice of Change in Status of the EDF-RE MBR Companies.

Filed Date: 12/8/15.

Accession Number: 20151208-5082.

Comments Due: 5 p.m. ET 12/29/15.

Docket Numbers: ER15-2657-001.

Applicants: Midcontinent Independent System Operator, Inc.

Description: Compliance filing: 2015-12-14_Order 1000 CTDS Enhancement Compliance Filing to be effective 11/16/2015.

Filed Date: 12/14/15.

Accession Number: 20151214-5242.

Comments Due: 5 p.m. ET 1/4/16.

Docket Numbers: ER16-518-000.

Applicants: Central Maine Power Company.

Description: § 205(d) Rate Filing: Executed Interconnection Agreement with Hackett Mills Hydro Associates to be effective 1/1/2016.

Filed Date: 12/14/15.

Accession Number: 20151214-5241.

Comments Due: 5 p.m. ET 1/4/16.

Docket Numbers: ER16-519-000.

Applicants: Nevada Power Company.

Description: § 205(d) Rate Filing: OATT Revisions to Schedule 1 12.14.15 to be effective 10/1/2015.

Filed Date: 12/14/15.

Accession Number: 20151214-5244.

Comments Due: 5 p.m. ET 1/4/16.

Docket Numbers: ER16-520-000.

Applicants: Southwestern Public Service Company.

Description: § 205(d) Rate Filing: 12-14-15_SPS Unfunded Reserves to be effective 1/1/2016.

Filed Date: 12/14/15.

Accession Number: 20151214-5245.

Comments Due: 5 p.m. ET 1/4/16.

Docket Numbers: ER16-521-000.

Applicants: Midcontinent Independent System Operator, Inc.

Description: § 205(d) Rate Filing: 2015-12-14 Attachment Y alignment with PRA to be effective 2/12/2016.

Filed Date: 12/14/15.

Accession Number: 20151214-5246.

Comments Due: 5 p.m. ET 1/4/16.

Docket Numbers: ER16-522-000.

Applicants: Consolidated Edison Company of New York, Inc.

Description: § 205(d) Rate Filing: PASNY Tariff RY 3 2015 to be effective 1/1/2016.

Filed Date: 12/14/15.

Accession Number: 20151214-5262.

Comments Due: 5 p.m. ET 1/4/16.

Docket Numbers: ER16-523-000.

Applicants: Sierra Pacific Power Company.

Description: Notices of Cancellation of Transmission Service Agreements of Sierra Pacific Power Company.

Filed Date: 12/14/15.

Accession Number: 20151214-5264.

Comments Due: 5 p.m. ET 1/4/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 15, 2015.
Nathaniel J. Davis, Sr.,
Deputy Secretary.

[FR Doc. 2015-31953 Filed 12-18-15; 8:45 am]

BILLING CODE 6717-01-P